DEPARTMENT OF ENERGY

Federal Energy Regulatory Commission

[Docket Nos. RP00-409-005 and RP00-631-006]

Natural Gas Pipeline Company of America; Notice of Compliance Filing

May 21, 2004.

Take notice that on May 17, 2004, Natural Gas Pipeline Company of America (Natural) tendered for filing to become part of its FERC Gas Tariff, Sixth Revised Volume No. 1, Second Substitute Original Sheet No. 252E, to be effective December 1, 2003.

Natural states that the purpose of this filing is to comply with the Commission's Letter Order issued on May 10, 2004 (Order). Natural further states that the Order approved, subject to two modifications, Natural's compliance filing under Order No. 637 filed herein on June 13, 2003.

Natural states that copies of the filing are being mailed to all parties set out of the Commission's official service list in Docket Nos. RP00-409 and RP00-631.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1235 Filed 5-28-04; 8:45 am]

BILLING CODE 6717-01-P